DEPARTMENT OF THE INTERIOR

Bureau of Land Management

[LLUT980300-L11200000-PH0000-24-1A]

Utah Resource Advisory Council Meeting/Conference Call

AGENCY: Bureau of Land Management, Interior.

ACTION: Notice of Meeting/Conference Call.

SUMMARY: In accordance with the Federal Land Policy and Management Act, the Bureau of Land Management (BLM) Utah Resource Advisory Council (RAC) will host a meeting/conference call.

DATES: The BLM-Utah RAC will host a meeting/conference call on Thursday, Jan. 23, 2014, from 8:30 a.m.-5:00 p.m., MST.

ADDRESSES: Those attending in person should meet at the BLM Utah State Office, 440 West 200 South, Salt Lake City, Utah, in the Monument Conference Room on the fifth floor.

FOR FURTHER INFORMATION CONTACT: If you wish to listen to the teleconference, orally present material during the teleconference, or submit written material for the RAC to consider during the teleconference, please notify Sherry Foot, Special Programs Coordinator, Bureau of Land Management, Utah State Office, 440 West 200 South, Suite 500, Salt Lake City, Utah 84101; phone (801) 539-4195; or, sfoot@blm.gov by close of business, Monday, Jan. 6, 2014.

SUPPLEMENTARY INFORMATION: The Utah RAC will elect officers for calendar year 2014. The Utah RAC is tasked to provide collective input on the Utah Greater Sage-Grouse Draft Land Use Plan Amendment and Environmental Impact Statement and to submit a draft comment letter to the BLM Utah. A 30-minute public comment period will take place from 9:45-10:15 a.m. The meeting is open to the public; however, transportation, lodging, and meals are the responsibility of the participating individuals.

The conference call will be recorded for purposes of minute-taking. Persons who use a telecommunications device for the deaf (TDD) may call the Federal Information Relay Service (FIRS) at 1-800-877-8339 to leave a message or question for the above individual. The FIRS is available 24 hours a day, seven days a week. Replies are provided during normal business hours.

Authority: 43 CFR 1784.4-1

Approved:
Jenna Whitlock,
Associate State Director.

[FR Doc. 2013-28465 Filed 11-26-13; 8:45 am]

BILLING CODE 4310-DQ-P